DEPARTMENT OF COMMERCE

National Oceanic and Atmospheric Administration

RIN 0648-XC150

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Habitat Oversight Committee to consider actions affecting New England fisheries in the exclusive economic zone (EEZ). Recommendations from this group will be brought to the full Council for formal consideration and action, if appropriate.

DATES: This meeting will be held on Thursday, August 23, 2012 at 9:30 a.m.

ADDRESSES: The meeting will be held at the Hotel Providence, 139 Mathewson Street, Providence, RI 02903; telephone: (401) 861-8000; fax: (401) 454-4306.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: There are three topics related to adverse effects and Dedicated Habitat Research Areas (DHRA) for Habitat Committee consideration at this meeting. First, the Committee will review updated DHRA recommendations from the Habitat Plan Development Team (PDT) and provide feedback to the PDT for further work. Next, the Committee will discuss PDT recommendations regarding ground cable length options. Finally, the Committee will review species and area-based ‘extra-SASI' materials intended to support decision making related to adverse effects minimization and DHRA alternatives, and provide any feedback as to how this information can be made more useful.

There are three topics related to deep-sea corals for Habitat Committee consideration at this meeting. First, the Committee will review a Memorandum of Understanding about coordination on deep-sea coral issues with the other Atlantic coast Councils, particularly MAFMC. This will include a presentation from the PDT on fishing effort in coral zones. Second, they will review comments received to date on a Federal Register notice indicating that the Council is exploring the possibility of splitting corals from the EFH Omnibus Amendment, 77 FR 44214, July 27, 2012 (comment period closes on August 27). Finally, the Committee will discuss work plans and timelines under various scenarios (i.e. corals split or not).

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at 978-465-0492, at least 5 days prior to the meeting date.

Authority: 16 U.S.C. 1801 et seq.

Dated: August 3, 2012.
Tracey L. Thompson,
Acting Deputy Director, Office of Sustainable Fisheries, National Marine Fisheries Service.

[FR Doc. 2012-19367 Filed 8-7-12; 8:45 am]

BILLING CODE 3510-22-P